DEPARTMENT OF AGRICULTURE

Natural Resources Conservation Service

Privacy Act of 1974; Systems of Records

AGENCY: Natural Resources Conservation Service (NRCS), USDA.

ACTION: NRCS is revising the System of Records from 1994.

SUMMARY: Publication of the NRCS revision to the System of Records to reflect an Agency reorganization changing the name of the Soil Conservation Service to the Natural Resources Conservation Service, to change the system name to reflect categories of files contained in the system, to add a routine use to allow records to be accessed by technical service providers and contractors, and to update authorities, agency contact information, system accessibility, file maintenance, storage, and retrieval.

EFFECTIVE DATES: August 30, 2005.

FOR FURTHER INFORMATION, CONTACT: Edward M. Biggers, Jr., Director, Management Services Division, 1400 Independence Avenue SW., Room 6136-S, Washington, DC 20250.

SUPPLEMENTARY INFORMATION: Section 2701 of the 2002 Farm Bill amended Section 1242 of the Food Security Act to require the Secretary of Agriculture to provide technical assistance for conservation programs authorized under Title XII of the Food Security Act to an agricultural producer eligible for that assistance “directly * * * or at the option of the producer, through a payment * * * to the producer for an approved third party, if available.” The Secretary of Agriculture delegated authority to implement Section 1242 to NRCS.

Amended Section 1242 of the Food Security Act greatly expands the availability of technical assistance to landowners, operators, producers, cooperators, or participants by allowing non-USDA providers of technical assistance to assist in the delivery of technical services. In order to provide technical assistance for Title XII programs, third party providers of technical services must be able to access landowner, operator, producer, cooperator, or participant information.

This Notice of Revision to Privacy Act System of Record, by adding a new routine use (7) to the NRCS System of Records (see attachment), allows disclosure to contractors and technical service providers for the purpose of providing technical services to a landowner, operator, producer, cooperator, or participant.

Summary of Changes

As published, the current system of records contains information that is in need of updating.

System Name: The name of the system is changed from “Program Cooperators—Soil Conservation Service, USDA/SCS” to “Landowner, Operator, Producer, Cooperator, or Participant Files—Natural Resources Conservation Service, USDA/NRCS.”

System Location: System location is changed by updating the name of the system and adding an Internet address and data center information.

Categories of Individuals Covered by the System: Categories of individuals covered by the System is changed by adding categories of individuals covered by the system.

Categories of Records in the System: Categories of Records in the System is changed by adding categories of records covered by the system.

Authority for Maintenance of the System: Authority for maintenance of the system is changed from “16 U.S.C. 590 a-f, q, q-1 and 42 U.S.C. 3271-3274” to “16 U.S.C. 590 a-f, q, q-1 and other applicable authorities.”

Routine Uses of Records Maintained in the System, Including Categories of Users and the Purposes of Such Uses: This section was changed by adding a new Routing Use, #7, which states, “[d]isclosure may be made to contractors or to technical service providers as necessary to provide technical services to NRCS landowners, operators, producers, cooperators, and participants and such disclosure shall be made subject to the purposes for which the contractor or technical service provider is hired.”

Storage: Storage is changed by updating the methods by which records are stored.

Retrievability: Retrievability is changed by updating the methods by which records are retrieved.

Safeguards: Safeguards is changed by updating the name of the Agency and how files are maintained, and by adding system access and authorization.

Retention and Disposal: Retention and disposal is changed by updating the categories of individuals covered by the system.

System Manager(s) and Address: System manager(s) and address is changed by adding an Internet address and updating the Agency name.

Notification Procedure: Notification procedure is changed by updating how individuals may request information regarding the system.

Record Access Procedures: Record access procedures are changed by updating how individuals may obtain procedures for gaining access to a record in the system.

Contesting Record Procedures: Contesting record procedures are changed by updating how individuals may obtain procedures for contesting a record in the system.

Record Source Categories: Record source categories are changed by updating the categories of individuals covered by the system and the Agency name.

Signed in Washington, DC on August 24, 2005.
Mike Johanns,
Secretary.

Department of Agriculture/Natural Resources Conservation Service—1

System Name:

Landowner, Operator, Producer, Cooperator, or Participant Files—Natural Resources Conservation Service, USDA

System Location:

Program landowner, operator, producer, cooperator, or participant files are maintained in all NRCS county field delivery locations, mostly USDA Field Service Centers in the county seat. Addresses of each field office are listed in the local telephone directories of the field office locations under the heading, “United States Government, Department of Agriculture, Natural Resources Conservation Service.” Addresses may also be obtained at http://www.nrcs.usda.gov. Program landowner, operator, producer, cooperator, or participant files are also maintained in USDA data centers at Fort Collins, Colorado; Kansas City, Missouri, St. Louis, Missouri, and other authorized secure data centers.

Categories of Individuals Covered by the System:

Landowners, operators, producers, cooperators, or participants with NRCS programs.

Categories of Records in the System:

The system consists of electronic databases and file folders containing information on an individual's conservation plans, cost-share agreements, conservation practice designs, hardcopy and electronic resource and planning maps, resource inventory data, assistance notes, personal and economic data, and other material necessary to provide assistance to the landowner, operator, producer, cooperator, or participant in conserving natural resources on their land they manage.

Authority for Maintenance of the System:

16 U.S.C. 590 a-f, q, q-1 and other applicable authorities.

Routine Uses of Records Maintained in the System, Including Categories of Users and the Purposes of Such Uses:

(1) Records may be disclosed to cooperating Federal, State, and local agencies, as necessary for implementation of conservation programs.

(2) Disclosure may be made to a congressional office from the record of an individual in response to an inquiry from the congressional office made at the request of that individual.

(3) Disclosure to Federal, State, and local agencies, when necessary to certify that a conservation plan is in effect for land users to qualify for other USDA program benefits.

(4) Referral to the Department of Justice with (a) the Agency, or any component thereof; or (b) any employee of the Agency in his/her official capacity; or (c) any employee of the Agency in his/her individual capacity where the Department of Justice has agreed to represent the employee; or (d) the United States, where the Agency determines that litigation is likely to affect the Agency or any of its components, is a part to litigation or has an interest in such litigation, and the use of such records by the Department of Justice is deemed by the Agency to be relevant and necessary to the litigation, provided, however, that in each case, the Agency determines that disclosure of the records to the Department of Justice is a use of the information contained in the records that is compatible with the purpose for which the records were collected.

(5) Disclosure in a proceeding before a court or adjudicative body before which the Agency is authorized to appear, when (a) the Agency, or any component thereof; or (b) any employee of the Agency in his/her official capacity; or (c) any employee of the Agency in his/her individual capacity where the Agency has agreed to represent the employee; or (d) the United States, where the Agency determines that litigation is likely to affect the Agency or any of its components, is a part to litigation or has an interest in such litigation, and the Agency determines that use of such records if relevant and necessary to the litigation, provided, however, that in each case, the Agency determines that disclosure of the records to the court is a use of the information contained in the records that is compatible with the purpose for which the records were collected.

(6) Referral to the appropriate agency, whether Federal, State, local, or foreign, charged with the responsibility of investigating or prosecuting a violation of law, or of enforcing or implementing the statute, rule, regulation, or order issued pursuant thereto, of any record within this system when information available indicates a violation or potential violation of law, whether civil, criminal, or regulatory in nature, and whether arising by general statute or particular program statute, or by rule, regulation, or order issued pursuant thereto.

(7) Disclosure may be made to contractors or to technical service providers as necessary to provide NRCS technical services to landowners, operators, producers, cooperators, and participants and such disclosure shall be made subject to the purposes for which the contractor or technical service provider is hired.

Policies and Practices for Storing, Retrieving, Accessing, Retaining, and Disposing of Records in the System:

Storage:

Records are maintained in an electronic retrieval system and in file folders in county field delivery offices.

Retrievability:

Records are retrieved by name of landowner, operator, producer, cooperator, or participant, or location on a map, unit identification number, location code, farm type, soil resources survey area, soil resources conservation district code, resource management systems and practices, and program contract information.

Safeguards:

System access is restricted to authorized Natural Resources Conservation Service employees and conservation district employees and technical service providers working to assist with the implementation of natural resources programs. NRCS field employees are authorized to access system records of landowners, operators, producers, cooperator, or participants in their service area or outside of their service area if the landowner, operator, producer, cooperator, or participant has authorized access. Conservation district employees are authorized to access system records of their district landowners, operators, producers, cooperators, or participants only in their official capacity as district employees.

The electronic data retrieval system is secured by the USDA Common Computing Environment user authentication process and USDA eAuthentication login and password protection. Hardcopy files are maintained in file cabinets, which should be locked when not in use. Offices are locked during non-business hours.

Retention and Disposal:

Records are maintained as long as the landowner, operator, producer, cooperator, or participant qualifies for conservation programs.

System Manager(s) and Address:

District conservationists or their designees are in charge of delivering services in county offices. Addresses of each field office are listed in the telephone directories of the field office locations under “United States Government, Department of Agriculture, Natural Resources Conservation Service.” Addresses may also be obtained at http://www.nrcs.usda.gov.

Notification Procedure:

Any individual may request information regarding this system of records, or information as to whether the system contains records pertaining to him/her by contacting the respective district conservationist or other designee. If the specific location of the record is not known, the individual should address his/her request to the Director, Management Services Division, USDA-Natural Resources Conservation Service, P. O. Box 2890, Washington, DC 20013, who will refer it to the appropriate field office. A request for information pertaining to an individual should contain: Name, address, and other relevant information (e.g., name or nature of program, name of cooperating body, etc.).

Record Access Procedures:

Any individual may obtain information as to the procedures for gaining access to a record in the system which pertains to him/her by submitting a written request to the district conservationist or his/her designated representative or to the Director, Management Services Division, USDA-Natural Resources Conservation Service, P.O. Box 2890, Washington, DC 20013.

Contesting Record Procedures:

Any individual may obtain information as to the procedures for contesting a record in the system which pertains to him/her by submitting a written request to the district conservationist or his/her designated representative or to the Director, Management Services Division, USDA-Natural Resources Conservation Service, P.O. Box 2890, Washington, DC 20013.

Record Source Categories:

Information in this system comes from landowners, operators, producers, cooperators, or participants and NRCS field conservationists who provide technical and program assistance to them.

[FR Doc. 05-17305 Filed 8-29-05; 8:45 am]

BILLING CODE 3410-16-U